DEPARTMENT OF AGRICULTURE

Forest Service

Flathead Resource Advisory Committee

AGENCY: Forest Service, USDA.

ACTION: Notice of meeting.

SUMMARY: The Flathead Resource Advisory Committee (RAC) will meet in Kalispell, Montana. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site: http://www.fs.usda.gov/main/flathead/workingtogether/advisorycommittees.

DATES: The meeting will be held on September 12, 2016, at 6:00 p.m.

All RAC meetings are subject to cancellation. For status of meeting prior to attendance, please contact the person listed under FOR FURTHER INFORMATION CONTACT.

ADDRESSES: The meeting will be held at Flathead National Forest Supervisor's Office, 650 Wolfpack Way, Kalispell, Montana.

Written comments may be submitted as described under SUPPLEMENTARY INFORMATION. All comments, including names and addresses when provided, are placed in the record and are available for public inspection and copying. The public may inspect comments received at the Flathead National Forest Supervisor's Office, 650 Wolfpack Way, Kalispell, Montana. Please call ahead at 406-758-5252 to facilitate entry into the building.

FOR FURTHER INFORMATION CONTACT: Janette Turk, Designated Federal Official by phone at 406-758-5252, or by email at jturk@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to hear a presentation of project proposals for RAC consideration.

The meeting is open to the public. The agenda will include time for people to make oral statements of three minutes or less. Individuals wishing to make an oral statement should request in writing by September 7, 2016, to be scheduled on the agenda. Anyone who would like to bring related matters to the attention of the committee may file written statements with the committee staff before or after the meeting. Written comments and requests for time to make oral comments must be sent to Janette Turk, Designated Federal Official, Flathead National Forest Supervisor's Office, 650 Wolfpack Way, Kalispell, Montana; or by email to jturk@fs.fed.us, or via facsimile to 406-758-5379.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: August 8, 2016.
Chip Weber,
Forest Supervisor.

[FR Doc. 2016-19225 Filed 8-11-16; 8:45 am]

BILLING CODE 3411-15-P